SECURITIES AND EXCHANGE COMMISSION

Sunshine Act Meeting; Cancellation

FEDERAL REGISTER CITATION OF PREVIOUS ANNOUNCEMENT: 86 FR 53355, September 27, 2021.

PREVIOUSLY ANNOUNCED TIME AND DATE OF THE MEETING: Wednesday, September 29, 2021 at 10:01 a.m.

CHANGES IN THE MEETING: The Closed Meeting scheduled for Wednesday, September 29, 2021 at 10:01 a.m., has been cancelled.

CONTACT PERSON FOR MORE INFORMATION: For further information; please contact Vanessa A. Countryman from the Office of the Secretary at (202) 551-5400.

Dated: September 29, 2021.
Vanessa A. Countryman,
Secretary.

[FR Doc. 2021-21516 Filed 9-29-21; 11:15 am]

BILLING CODE 8011-01-P